DEPARTMENT OF THE INTERIOR

National Park Service

[9919-726-252Z]

Description of Boundary Addition, Noatak National Preserve

AGENCY: National Park Service, Interior.

ACTION: Notice of boundary addition description.

SUMMARY: This notice sets out the legal description of the Noatak National Preserve and Wilderness Addition.

FOR FURTHER INFORMATION CONTACT: National Park Service, Chief, Land Resources Program Center, Alaska Region, 240 W. 5th Avenue, Anchorage, Alaska 99501, (907) 644-3426.

ADDRESSES: The map of the Noatak National Preserve and Noatak Wilderness is available for viewing at the National Park Service offices in Anchorage at 240 West 5th Avenue, Anchorage, Alaska 99501, and in Kotzebue at 171 Third Avenue, Kotzebue, Alaska 99752.

SUPPLEMENTARY INFORMATION: Noatak National Preserve and Wilderness were established on December 2, 1980 by the Alaska National Interest Lands Conservation Act. The boundaries of the Park, Preserve and Wilderness were published in the Federal Register on September 30, 1992. This notice sets out the description of a 17,168 acre addition to Noatak National Preserve and Wilderness: The Addition was established by Section 302 of the Omnibus Parks and Public Lands Management Act of 1996 (Pub. L. 104-333, 110 Stat. 4093). The following legal description is to be included and made part of the descriptions of the boundaries for Noatak National Preserve and Noatak Wilderness as published in the Federal Register/Vol. 57, No. 190/Wednesday, September 30, 1992/pages 45221 to 45224. The land is depicted on a map titled “Noatak National Preserve and Noatak Wilderness Addition”, map number 189/80,041, dated September 1994, which is available at the National Park Service offices in Anchorage and Kotzebue, Alaska.

Noatak National Preserve and Wilderness Addition

Kateel River Meridian, Alaska

T. 31 N., R. 13 E. (unsurveyed),

Secs. 4 and 5;

Sec. 6, E½E½ E½E½W½NE¼ and NE¼NE¼NW¼SE¼;

Secs. 8 to 11, inclusive;

Secs. 13 to 16, inclusive;

Sec. 17, N½ and SE¼;

Secs. 23, 24 and 25.

T. 32 N., R. 13 E. (unsurveyed),

Sec. 31, excluding lands within National Petroleum Reserve of Alaska;

Sec. 32, W½E½ and W½.

T. 30 N., R. 14 E. (unsurveyed),

Sec. 3, SW¼SW¼;

Secs. 4 and 5;

Sec. 6, NE¼NE¼;

Sec. 8, N½NE¼;

Secs. 9 and 10;

Sec. 11, W½, excluding lands within Gates of the Arctic National Park;

Sec. 14, NW¼, excluding lands within Gates of the Arctic National Park;

Sec. 15, N½;

Sec. 16, NE¼.

T. 31 N., R. 14 E. (unsurveyed),

Secs. 19 and 20;

Secs. 29 to 32, inclusive.

DATES: The effective date of this boundary revision is November 12, 1996.

Dated: November 15, 2011.
Sue E. Masica,
Regional Director, Alaska Region.

[FR Doc. 2011-32135 Filed 12-14-11; 8:45 am]

BILLING CODE 4312-HN-P